FEDERAL MARITIME COMMISSION

Sunshine Act Meeting

Time and Date: 10 a.m.—January 30, 2002.

Place: 800 North Capitol Street, NW., First Floor Hearing Room, Washington, DC.

Status: A portion of the meeting will be open and the remainder will be closed.

Matters to be Considered: The Open Portion of the Meeting:

1. Passenger Vessel Operator Program: Issues Regarding Financial Coverage for Performance of Cruises.

The Closed Portion of the Meeting:

1. Fact Finding Investigation No. 24—Exclusive Tug Arrangements in Florida Ports

CONTACT PERSON FOR MORE INFORMATION: Bryant L. VanBrakle, Secretary, (202) 523-5725.

Bryant L. VanBrakle,
Secretary.

[FR Doc. 02-2031 Filed 1-23-02; 2:00 pm]

BILLING CODE 6730-01-M